FEDERAL COMMUNICATIONS COMMISSION

47 CFR Parts 51, 61, and 69

[WC Docket No. 18-155; Report No. 3137; FRS 16323]

Petition for Reconsideration of Action in Proceeding

AGENCY: Federal Communications Commission.

ACTION: Petition for reconsideration.

SUMMARY: A Petition for Reconsideration (Petition) has been filed in the Commission's proceeding listed below by James U. Troup, on behalf of Iowa Network Services, Inc. d/b/a Aureon Network Services.

DATES: Oppositions to the Petition must be filed on or before January 7, 2020. Replies to an opposition must be filed on or before January 17, 2020.

ADDRESSES: Federal Communications Commission, 445 12th Street SW, Washington, DC 20554.

FOR FURTHER INFORMATION CONTACT: Lynne Engledow, Pricing Policy Division, Wireline Competition Bureau, at (202) 418-1540, email: Lynne.Engledow@fcc.gov.

SUPPLEMENTARY INFORMATION: This is a summary of the Commission's document, Report No. 3137, released December 10, 2019. The full text of the Petition is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5 U.S.C. 801 because no rules are being adopted by the Commission.

Subject: Updating the Intercarrier Compensation Regime to Eliminate Access Arbitrage, FCC 19-94, published at 84 FR 57629, October 28, 2019, in WC Docket No. 18-155. This document is being published pursuant to 47 CFR 1.429(e). See also 47 CFR 1.4(b)(1) and 1.429(f), (g).

Number of Petitions Filed: 1.

Federal Communications Commission.
Marlene Dortch,
Secretary,

[FR Doc. 2019-27608 Filed 12-20-19; 8:45 am]

BILLING CODE 6712-01-P